DEPARTMENT OF HOMELAND SECURITY

8 CFR Parts 214 and 274a

[CIS No. 2719-22]

RIN 1615-AC79

DEPARTMENT OF LABOR

Employment and Training Administration

20 CFR Part 655

[DOL Docket No. ETA-2022-0004]

RIN 1205-AC10

Exercise of Time-Limited Authority To Increase the Numerical Limitation for Second Half of FY 2022 for the H-2B Temporary Nonagricultural Worker Program and Portability Flexibility for H-2B Workers Seeking To Change Employers; Correction

AGENCY: U.S. Citizenship and Immigration Services (USCIS), Department of Homeland Security (DHS), and Employment and Training Administration and Wage and Hour Division, U.S. Department of Labor (DOL).

ACTION: Temporary rule; correction.

SUMMARY: On May 18, 2022, the Department of Homeland Security and Department of Labor jointly published a temporary rule titled “Exercise of Time-Limited Authority to Increase the Numerical Limitation for Second Half of FY 2022 for the H-2B Temporary Nonagricultural Worker Program and Portability Flexibility for H-2B Workers Seeking to Change Employers.” This is the second correction. The first correction was published in the Federal Register on May 23, 2022. The Addresses section contained an incorrect regulatory information numbers (RIN). This document corrects the RIN.

DATES: Effective on May 18, 2022.

FOR FURTHER INFORMATION CONTACT: Pamela Peters, Acting Director, Office of Regulatory and Programmatic Policy, Office of the Assistant Secretary for Policy, U.S. Department of Labor, 200 Constitution Avenue NW, Washington, DC 20210; telephone 202-693-5959 (this is not a toll-free number).

SUPPLEMENTARY INFORMATION: On May 18, 2022, the Department of Homeland Security and Department of Labor jointly published a temporary rule. This is the second correction. The first correction was published in the Federal Register on May 23, 2022 (87 FR 31095).

Correction

In the temporary rule, FR Doc. 2022-10631, beginning on page 30334 in the issue of Wednesday, May 18, 2022, make the following correction in the ADDRESSES section. On page 30334 in the second column, lines 5 and 12 the RIN is corrected to read “1205-AC10.”

Christina E. McDonald,
Federal Register Liaison, U.S. Department of Homeland Security.
Laura Dawkins,
Federal Register Liaison, U.S. Department of Labor.

[FR Doc. 2022-11989 Filed 6-3-22; 8:45 am]

BILLING CODE 4510-FP-P